DEPARTMENT OF LABOR

Employment and Training Administration

TA-W-81,446, Wellpoint, Inc., NE Enrollment and Billing Division, Including On-Site Leased Workers From Aerotek, Kelly Services and Populus Group, North Haven, CT; TA-W-81,446A, Wellpoint, Inc., NE Enrollment and Billing Division, Including On-Site Leased Workers From Aerotek, Kelly Services and Populus Group, Manchester, NH; TA-W-81,446B, Wellpoint, Inc., NE Enrollment and Billing Division, Including On-Site Leased Workers From Aerotek, Kelly Services and Populus Group, South Portland, ME; Amended Certification Regarding Eligibility To Apply for Worker Adjustment Assistance

In accordance with Section 223 of the Trade Act of 1974, as amended (“Act”), 19 U.S.C. 2273, the Department of Labor issued a Certification of Eligibility to Apply for Worker Adjustment Assistance on April 9, 2012, applicable to workers of WellPoint, Inc., NE Enrollment and Billing Division, including on-site leased workers from Aerotek, Kelly Services and Populus Group, North Haven, Connecticut. The workers are engaged in the supply of health insurance and related services. The notice was published in the Federal Register on April 27, 2012 (77 FR 25201).

At the request of a company official, the Department reviewed the certification for workers of the subject firm. Information shows that the Manchester, New Hampshire and South Portland, Maine locations of the subject firm operated in the same capacity through various processing services, and both experienced worker separations during the relevant time period due to the acquisition of services from abroad.

Accordingly, the Department is amending the certification to include workers of the Manchester, New Hampshire and South Portland, Maine locations of WellPoint, Inc., NE Enrollment and Billing Division.

The intent of the Department's certification is to include all workers of the subject firm who were adversely affected by the acquisition of services from abroad.

The amended notice applicable to TA-W-81,446 is hereby issued as follows:

All workers from WellPoint, Inc., NE Enrollment and Billing Division, including on-site leased workers from Aerotek, Kelly Services and Populus Group, North Haven, Connecticut (TA-W-81,446), and all workers of WellPoint, Inc., NE Enrollment and Billing Division, including on-site leased workers from Aerotek, Kelly Services and Populus Group, Manchester, New Hampshire (TA-W-81,446A), and all workers of WellPoint, Inc., NE Enrollment and Billing Division, including on-site leased workers from Aerotek, Kelly Services and Populus Group, South Portland, Maine, who became totally or partially separated from employment on or after March 22, 2011 through April 9, 2014, and all workers in the group threatened with total or partial separation from employment on date of certification through two years from the date of certification, are eligible to apply for adjustment assistance under Chapter 2 of Title II of the Trade Act of 1074, as amended.

Signed at Washington, DC, this 25th day of July 2012.
Michael W. Jaffe,
Certifying Officer, Office of Trade Adjustment Assistance.

[FR Doc. 2012-19467 Filed 8-8-12; 8:45 am]

BILLING CODE 4510-FN-P